ENVIRONMENTAL PROTECTION AGENCY

[FRL OP-OFA-177]

Environmental Impact Statements; Notice of Availability

Responsible Agency: Office of Federal Activities, General Information 202-564-5632 or https://www.epa.gov/nepa.

Weekly receipt of Environmental Impact Statements (EIS)

Filed April 28, 2025 10 a.m. EST Through May 5, 2025 10 a.m. EST

Pursuant to CEQ Guidance on 42 U.S.C. 4332.

Notice: Section 309(a) of the Clean Air Act requires that EPA make public its comments on EISs issued by other Federal agencies. EPA's comment letters on EISs are available at: https://cdxapps.epa.gov/cdx-enepa-II/public/action/eis/search.

EIS No. 20250049, Final, GSA, MN, Environmental Impact Statement for the Grand Portage Land Port of Entry Modernization and Expansion Project Grand Portage, MN, Review Period Ends: 06/09/2025, Contact: Matthew Heiman 612-615-6172.

EIS No. 20250050, Final, NRC, OH, Generic Environmental Impact Statement for License Renewal of Nuclear Plants, Supplement 61, Regarding Perry Nuclear Power Plant, Unit 1, Final Report (NUREG-1437), Review Period Ends: 06/09/2025, Contact: Lance Rakovan 301-415-2589.

EIS No. 20250051, Draft, USFS, AZ, Hermosa Critical Minerals Project, Comment Period Ends: 06/23/2025, Contact: Daniel O'Toole 202-309-1523.

EIS No. 20250052, Final, GSA, CT, Final Environmental Impact Statement for the Construction of a New Federal Courthouse (Hartford, Connecticut), Review Period Ends: 06/09/2025, Contact: Joseph Mulligan 312-505-5426.

EIS No. 20250053, Third Final Supplemental, USACE, CA, American River Common Features, 2016 Flood Risk Management Project, Sacramento, California, Supplemental Environmental Impact Statement/Subsequent Environmental Impact Report XIV, Review Period Ends: 06/11/2025, Contact: Mr. Guy Romine 916-557-5100.

Dated: May 6, 2025.
Nancy Abrams,
Associate Director, Office of Federal Activities.

[FR Doc. 2025-08166 Filed 5-8-25; 8:45 am]

BILLING CODE 6560-50-P